ENVIRONMENTAL PROTECTION AGENCY

40 CFR Part 52 and 81

[EPA-R05-OAR-2018-0842; FRL-9994-11-Region 5]

Air Plan Approval; Illinois; Redesignation of the Illinois Portion of the St. Louis, MO-IL Area to Attainment of the 1997 Annual Standard for Fine Particulate Matter

AGENCY: Environmental Protection Agency (EPA).

ACTION: Final rule.

SUMMARY: The Environmental Protection Agency (EPA) is redesignating the Illinois portion of the St. Louis, MO-IL, nonattainment area (hereafter, “the St. Louis area”) to attainment for the 1997 fine particulate matter (PM2.5) annual national ambient air quality standard (NAAQS or standard). The Illinois portion of the St. Louis area includes Madison, Monroe, and St. Clair counties, and Baldwin Township in Randolph county. EPA is taking this action because it has determined that the St. Louis area is attaining the annual 1997 PM2.5 standard based on the most recent three years of certified air quality data. EPA is also approving a revision to the Illinois state implementation plan (SIP) for maintaining the 1997 annual PM2.5 NAAQS through 2030. Illinois' maintenance plan submission includes an updated emissions inventory, which includes emissions inventories for PM2.5, nitrogen oxides (NOX), sulfur dioxide (SO2) volatile organic compounds (VOCs) and ammonia. The maintenance plan submission also includes motor vehicle emission budgets (MVEBs) for the mobile source contribution of PM2.5 and NOX to the St. Louis PM2.5 area for transportation conformity purposes. EPA is approving and updating both the emissions inventory and MVEBs. EPA is taking these actions in accordance with the Clean Air Act (CAA) and EPA's implementation rule regarding the 1997 PM2.5 NAAQS.

DATES: This final rule is effective on May 28, 2019.

ADDRESSES: EPA has established a docket for this action under Docket ID No. EPA-R05-OAR-2018-0842. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays. We recommend that you telephone Michelle Becker, Life Scientist, at (312) 886-3901 before visiting the Region 5 office.

FOR FURTHER INFORMATION CONTACT: Michelle Becker, Life Scientist, Attainment Planning and Maintenance Section, Air Programs Branch (AR-18J), Environmental Protection Agency, Region 5, 77 West Jackson Boulevard, Chicago, Illinois 60604, (312) 886-3901, becker.michelle@epa.gov.

SUPPLEMENTARY INFORMATION: Throughout this document whenever “we,” “us,” or “our” is used, we mean EPA. This supplementary information section is arranged as follows:

I. Background

II. What action is EPA taking?

III. Statutory and Executive Order Reviews

I. Background

On December 6, 2018, Illinois submitted a request to EPA to redesignate the St. Louis area to attainment for the 1997 PM2.5 annual standard, and to approve the maintenance plan, MVEBs, and 2008 emissions inventory for the area. In an action published on March 21, 2019 (84 FR 10461), EPA proposed to redesignate the area and approve several actions related to the redesignation. Additional background and details regarding this final action can be found in the March 21, 2019, proposed rule. The comment period for this proposed rulemaking closed on April 22, 2019. No comments were received for this proposed rule.

II. What action is EPA taking?

EPA is approving a change to the official designation of the St. Louis area for the 1997 annual PM2.5 NAAQS, found at 40 CFR part 81, from nonattainment to attainment. EPA is approving a determination that the St. Louis area has attained the 1997 annual PM2.5 standard, based on the most recent three years of certified air quality data. This action also approves the maintenance plan for the 1997 annual PM2.5 NAAQS as revision to the Illinois SIP for the St. Louis area. EPA is also approving an emissions inventory which includes primary PM2.5, NOX, SO2, VOCs, and ammonia from 2008 and MVEBs for the St. Louis area. These MVEBs will be used in future transportation conformity analyses for the area.

In The Fine Particulate Matter National Ambient Air Quality Standards: State Implementation Plan Requirements final rule (final PM2.5 SIP requirements rule), EPA revoked the 1997 primary annual PM2.5 NAAQS in areas that had always been attainment for that NAAQS, and in areas that had been designated as nonattainment but that were redesignated to attainment before October 24, 2016, the rule's effective date. See 81 FR 58010, August 24, 2016. EPA also finalized a provision that revokes the 1997 primary annual PM2.5 NAAQS in areas that are redesignated to attainment for that NAAQS after October 24, 2016, effective on the effective date of the redesignation of the area to attainment for that NAAQS. See 40 CFR 50.13(d).

EPA is redesignating the Illinois portion of the St. Louis area to attainment for the 1997 annual PM2.5 NAAQS and approving the CAA section 175A maintenance plan for the 1997 primary annual PM2.5 NAAQS for the reasons described in the March 21, 2019, proposed action.¹ The 1997 primary annual PM2.5 NAAQS will be revoked in the area on the effective date of this redesignation. Beginning on that date, the area will no longer be subject to transportation or general conformity requirements for the 1997 annual PM2.5 NAAQS due to the revocation of the primary NAAQS. See 81 FR 58125, August 24, 2016. The area will be required to implement the CAA section 175A maintenance plan for the 1997 primary annual PM2.5 NAAQS and the Prevention of Significant Deterioration (PSD) program for the 1997 annual PM2.5 NAAQS. Once approved, the maintenance plan could only be revised if the revision meets the requirements of CAA section 110(l) and, if applicable, CAA section 193. The area would not be required to submit a second 10-year maintenance plan for the 1997 primary annual PM2.5 NAAQS. See 81 FR 58144, August 24, 2016.

¹ CAA section 175A(a) establishes the requirements that must be fulfilled by nonattainment areas in order to be redesignated to attainment. That section only requires that nonattainment areas for the primary standard submit a plan addressing maintenance of the primary NAAQS in order to be redesignated to attainment; it does not require nonattainment areas for secondary NAAQS to submit maintenance plans in order to be redesignated to attainment. See 42 U.S.C. 7505a(a).

In accordance with 5 U.S.C. 553(d), EPA finds there is good cause for these actions to become effective immediately upon publication. This is because a delayed effective date is unnecessary due to the nature of a redesignation to attainment, which relieves the area from certain CAA requirements that would otherwise apply to it. The immediate effective date for this action is authorized under both 5 U.S.C. 553(d)(1), which provides that rulemaking actions may become effective less than 30 days after publication if the rule “grants or recognizes an exemption or relieves a restriction,” and section 553(d)(3), which allows an effective date less than 30 days after publication “as otherwise provided by the agency for good cause found and published with the rule.” The purpose of the 30-day waiting period prescribed in section 553(d) is to give affected parties a reasonable time to adjust their behavior and prepare before the final rule takes effect. This rulemaking, however, does not create any new regulatory requirements such that affected parties would need time to prepare before the rule takes effect. Rather, today's rule relieves the state of planning requirements for this PM2.5 nonattainment area. For these reasons, EPA finds good cause under 5 U.S.C. 553(d)(3) for these actions to become effective on the date of publication of these actions.

III. Statutory and Executive Order Reviews

Under the CAA, redesignation of an area to attainment and the accompanying approval of a maintenance plan under section 107(d)(3)(E) are actions that affect the status of a geographical area and do not impose any additional regulatory requirements on sources beyond those imposed by state law. A redesignation to attainment does not in and of itself create any new requirements, but rather results in the applicability of requirements contained in the CAA for areas that have been redesignated to attainment. Moreover, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 29, 2019. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Incorporation by reference, Intergovernmental relations, Nitrogen dioxide, Particulate matter, Reporting and recordkeeping requirements, Sulfur oxides, Volatile organic compounds.

40 CFR Part 81

Environmental protection, Air pollution control, National parks, Wilderness areas.

Dated: May 14, 2019.
Cathy Stepp,
Regional Administrator, Region 5.

Title 40 CFR parts 52 and 81 are amended as follows:

PART 52—APPROVAL AND PROMULGATION OF IMPLEMENTATION PLANS

1. The authority citation for part 52 continues to read as follows:

Authority: 42 U.S.C. 7401 et seq.

2. In § 52.720, the table in paragraph (e) is amended by:

a. Adding an entry under “Attainment and Maintenance Plans” for “PM2.5 (1997)-maintenance plan and motor vehicle emissions budgets” before the entry “Sulfur dioxide (2010) nonattainment plans”.

b. Adding an entry under “Emissions inventories” for “Emissions inventories—2008 (NOX, primary PM2.5, SO2, ammonia, and VOC)” before the entry “Emission inventory—2011 (2008 8-hour ozone).”

The additions read as follows:

§ 52.720 Identification of plan.

* * * * *

(e) * * *

EPA-Approved Illinois Nonregulatory and Quasi-Regulatory Provisions
Name of SIP provision | Applicable geographic or nonattainment area | State submittal date | EPA approval date | Comments
* * * * * * *
Attainment and Maintenance Plans
* * * * * * *
PM2.5 (1997)—maintenance plan and motor vehicle emissions budgets | St. Louis area | 12/6/2018 | 5/28/2019, [Insert Federal Register citation]
* * * * * * *
Emissions Inventories
* * * * * * *
Emissions inventories—2008 (NOX, primary PM2.5, SO2, ammonia, and VOC) | St. Louis area | 12/6/2018 | 5/28/2019, [Insert Federal Register citation]
* * * * * * *

* * * * *

PART 81—DESIGNATION OF AREAS FOR AIR QUALITY PLANNING PURPOSES

3. The authority citation for part 81 continues to read as follows:

Authority: 42 U.S.C. 7401 et seq.

4. Section 81.314 is amended by revising the entries for St. Louis, MO-IL in the table entitled “Illinois—1997 Annual PM2.5 NAAQS” to read as follows:

§ 81.314 Illinois.

* * * * *

Illinois—1997 Annual PM2.5 NAAQS
[Primary and secondary]
Designated area | Designation ᵃ: Date ¹ | Designation ᵃ: Type | Classification: Date ² | Classification: Type
* * * * * * *
St. Louis, MO-IL:
Madison County | 5/28/2019 | Attainment |  |
Monroe County | 5/28/2019 | Attainment |  |
Randolph County (part): Baldwin Village | 5/28/2019 | Attainment |  |
St. Clair County | 5/28/2019 | Attainment |  |
* * * * * * *
ᵃ Includes Indian Country located in each county or area, except as otherwise specified.
¹ This date is 90 days after January 5, 2005, unless otherwise noted.
² This date is July 2, 2014, unless otherwise noted.

* * * * *

[FR Doc. 2019-10970 Filed 5-24-19; 8:45 am]

BILLING CODE 6560-50-P